DEPARTMENT OF THE INTERIOR

National Park Service

Notice of Inventory Completion: Slater Museum of Natural History, University of Puget Sound, Tacoma, WA

AGENCY: National Park Service, Interior.

ACTION: Notice.

Notice is here given in accordance with the Native American Graves Protection and Repatriation Act (NAGPRA), 25 U.S.C. 3003, of the completion of an inventory of human remains in the possession of the Slater Museum of Natural History, University of Puget Sound, Tacoma, WA. The human remains were removed from Hood River, Hood River County, OR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Slater Museum of Natural History, University of Puget Sound professional staff and a consultant in consultation with representatives of the Confederated Tribes of the Warm Springs Reservation of Oregon and Confederated Tribes and Bands of the Yakama Nation, Washington.

Human remains representing a minimum of two individuals were removed from Hood River, Hood River County, OR, by an unknown person on an unknown date. The human remains were brought to the museum by Howard Richardson on February 7, 1939. No known individual was identified. No associated funerary objects are present.

The individuals are most likely of Native American ancestry as indicated by morphological features. The geographical location where the human remains were recovered is consistent with the historically documented territory of the tribes now represented by the Confederated Tribes of the Warm Springs Reservation of Oregon. The Indian Claims Commission Final Decision places Hood River within the territories of the Confederated Tribes of the Warm Springs Reservation of Oregon. Furthermore, based on information provided during consultation with tribal representatives, there is a reasonable belief that the human remains share a common ancestry with members of tribes now represented by the Confederated Tribes of the Warm Springs Reservation of Oregon.

Officials of the Slater Museum of Natural History have determined that, pursuant to 25 U.S.C. 3001 (9-10), the human remains described above represent the physical remains of two individuals of Native American ancestry. Officials of the Slater Museum of Natural History also have determined that, pursuant to 25 U.S.C. 3001 (2), there is a relationship of shared group identity that can be reasonably traced between the Native American human remains and the Confederated Tribes of the Warm Springs Reservation of Oregon.

Representatives of any other Indian tribe that believes itself to be culturally affiliated with the human remains should contact Dr. Peter Wimberger, Slater Museum of Natural History, 1500 N. Warner, Tacoma, WA 98416, (253) 879-2784, before October 19, 2007. Repatriation of the human remains to the Confederated Tribes of the Warm Springs Reservation of Oregon may proceed after that date if no additional claimants come forward.

The Slater Museum of Natural History is responsible for notifying the Confederated Tribes of the Warm Springs Reservation of Oregon and Confederated Tribes and Bands of the Yakama Nation, Washington that this notice has been published.

Dated: August 29, 2007.
Sherry Hutt,
Manager, National NAGPRA Program.

[FR Doc. E7-18482 Filed 9-18-07; 8:45 am]

BILLING CODE 4312-50-S